DEPARTMENT OF HEALTH AND HUMAN SERVICES

National Institutes of Health

Notice of Open Meeting

Notice is hereby given that the National Institute of Diabetes and Digestive and Kidney Diseases (NIDDK), a research institute of the National Institutes of Health (NIH), Department of Health and Human Services (DHHS), plans to hold a scientific meeting.

Title: “Meeting on Measurement of Urinary Symptoms (MOMUS).”

Dates: November 14-15, 2011.

Time: 8:30 a.m.-6 p.m.

Place: Building 45, Natcher Center Main Auditorium, NIH campus, Bethesda, MD.

Meeting Objectives:

A. Discuss the uses and shortcomings of current symptom-based instruments in research of lower urinary tract dysfunction (LUTD).

B. Disseminate state-of-the-art methodology to improve patient reported outcomes (PRO) of symptomatic LUTD.

C. Discuss the validation and qualification process of new measurement tools, and patient phenotyping.

D. Align the new LUTD symptom measurement tool among involved parties.

This workshop is free and open to the public. We encourage registration for those attending in person (see Web address below).

Individuals with disabilities who need reasonable accommodations should indicate your needs on the registration form or contact Ms. Mary Compton at The Scientific Consulting Group, Inc. by e-mail at mcompton@scgcorp.com or by telephone to 301-670-4990.

For more information, including an agenda, registration and visitor information, please visit the Workshop Web site: http://www2.niddk.nih.gov/News/Calendar/MOMUS2011.

Contact Person: Ziya Kirkali, M.D.; Senior Scientific Advisor, Division of Kidney, Urology and Hematology, NIDDK, NIH. Phone: 301-594-7718 E-mail: kirkaliz@mail.nih.gov.

Dated: September 29, 2011.
Robert Star,
Director, KUH/NIDDK, National Institutes of Health.

[FR Doc. 2011-25872 Filed 10-5-11; 8:45 am]

BILLING CODE 4140-01-P